DEPARTMENT OF ENERGY

Federal Energy Regulatory Commission

Combined Notice of Filings #1

Take notice that the Commission received the following electric rate filings:

Docket Numbers: ER23-542-000.

Applicants: San Diego Gas & Electric Company.

Description: Informational Filing [Cycle 5] of Fifth Transmission Owner Rate Formula rate mechanism of San Diego Gas & Electric Company.

Filed Date: 12/1/22.

Accession Number: 20221201-5234.

Comment Date: 5 p.m. ET 12/20/22.

Docket Numbers: ER23-543-000.

Applicants: EDF Renewables, Inc.

Description: Petition for Limited Waiver and expedited Commission action of EDF Renewables, Inc.

Filed Date: 12/1/22.

Accession Number: 20221201-5245.

Comment Date: 12 p.m. (Noon) ET 12/5/22.

Docket Numbers: ER23-544-000.

Applicants: PJM Interconnection, L.L.C.

Description: § 205(d) Rate Filing: Original ISA, Service Agreement No. 6708; Queue No. AF1-075 to be effective 11/2/2022.

Filed Date: 12/2/22.

Accession Number: 20221202-5008.

Comment Date: 5 p.m. ET 12/23/22.

Take notice that the Commission received the following foreign utility company status filings:

Docket Numbers: FC23-1-000.

Applicants: I Squared Capital.

Description: I Squared Capital submits Notice of Self-Certification of Foreign Utility Company Status.

Filed Date: 11/29/22.

Accession Number: 20221129-5223.

Comment Date: 5 p.m. ET 12/20/22.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: December 2, 2022.
Kimberly D. Bose,
Secretary.

[FR Doc. 2022-26677 Filed 12-7-22; 8:45 am]

BILLING CODE 6717-01-P